DEPARTMENT OF STATE

[Public Notice 8828]

In the Matter of the Designation of Mujahidin Shura Council in the Environs of Jerusalem (MSC), Also Known as MSC, Also Known as Mujahideen Shura Council in the Environs of Jerusalem, Also Known as Mujahideen Shura Council, Also Known as Majlis Shura al-Mujahedin Fi Aknaf Bayt al-Maqdis, Also Known as Majlis Shura al-Mujahidin, Also Known as Majlis Shura al-Mujahideen, Also Known as Magles Shoura al-Mujahddin, as a Foreign Terrorist Organization Pursuant to Section 219, of the Immigration and Nationality Act, as Amended

Based upon a review of the Administrative Record assembled in this matter and in consultation with the Attorney General and the Secretary of the Treasury, I conclude that there is a sufficient factual basis to find that the relevant circumstances described in section 219 of the Immigration and Nationality Act, as amended (hereinafter “INA”) (8 U.S.C. 1189), exist with respect to Mujahidin Shura Council in the Environs of Jerusalem (MSC), also known as MSC, also known as Mujahideen Shura Council in the Environs of Jerusalem, also known as Mujahideen Shura Council, also known as Majlis Shura al-Mujahedin Fi Aknaf Bayt al-Maqdis, also known as Majlis Shura al-Mujahidin, also known as Majlis Shura al-Mujahideen, also known as Magles Shoura al-Mujahddin.

Therefore, I hereby designate the aforementioned organization and its aliases as a Foreign Terrorist Organization pursuant to section 219 of the INA.

This determination shall be published in the Federal Register.

Dated: August 1, 2014.
John F. Kerry,
Secretary of State.

[FR Doc. 2014-19778 Filed 8-19-14; 8:45 am]

BILLING CODE 4710-10-P